DEPARTMENT OF LABOR

Office of the Secretary

Submission for OMB Review; Comment Request

October 21, 2002.

The Department of Labor (DOL) has submitted the following public information collection request (ICR) to the Office of Management and Budget (OMB) for review and approval in accordance with the Paperwork Reduction Act of 1995 (Pub. L. 104-13, 44 U.S.C. Chapter 35). A copy of each individual ICR, with applicable supporting documentation, may be obtained by calling the Department of Labor. To obtain documentation contact Marlene Howze at ((202) 693-4158) or e-mail Howze-Marlene@dol.gov.

Comments should be sent to Office of Information and Regulatory Affairs, Attn: OMB Desk Officer for PWBA, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and minimize the burden of the collection of information on those who are to respond, including through the use of appropriate automated, electronic, mechanical, or other technological collection techniques or other forms of information technology, e.g., permitting electronic submission of responses.

Type of Review: Extension of a currently approved collection.

Agency: Pension and Welfare Benefits Administration (PWBA).

Title: Furnishing Documents to the Secretary of Labor on Request under ERISA Section 104(a)(6).

OMB Number: 1210-0112.

Affected Public: Business or other for-profit; individuals or households; and not-for-profit institutions.

Frequency: On occasion.

Estimated Time Per Response: 30 minutes preparation and 5 minutes distribution.

Number of Respondents: 1,000.

Number of Annual Responses: 1,000.

Total Burden Hours: 95.

Total Annualized Capital/Startup Costs: $0.

Total Annual Costs (operating/maintaining systems or purchasing services): $4,000.

Description: ERISA Section 104(a)(6) and related regulations at 29 CFR 2520.104a-8 require the administrator of an employee benefit plan covered by Title I of ERISA to furnish certain documents relating to the plan on request to the Secretary of Labor. The Department collects documents related to the establishment or operation of an employee benefit plan in order to provide participants with plan information that they have requested and to which they are entitled under the disclosure requirements of ERISA.

Ira L. Mills,
Departmental Clearance Officer.

[FR Doc. 02-27870 Filed 10-31-02; 8:45 am]

BILLING CODE 4510-27-M